DEPARTMENT OF AGRICULTURE

Forest Service

Notice of Proposed New Fee Sites

AGENCY: Chequamegon-Nicolet National Forest, Forest Service, Department of Agriculture.

ACTION: Notice of Proposed New Fee Sites.

SUMMARY: The Chequamegon-Nicolet National Forest is proposing new recreation fee sites. The Chequamegon-Nicolet's proposal includes: A $75 nightly fee for the Franklin Lake Caretaker Cabin, and adding nine day-use sites to the Forest's day-use fee program. Sites proposed are: Ada Lake Beach, Bear Lake Beach, Bear Lake Boat Landing, Beck Road Trailhead, Block House Boat Landing, Gordon Lake Beach, Mondeaux Pines Picnic Site, Smith Rapids Picnic Area and Wanoka Trailhead.

Fees are assessed based on the level of amenities and services provided, cost of operations and maintenance and market assessment. These fees are proposed and will be determined upon further analysis and public comment. Funds from fees would be used for the continued operation and maintenance and improvements to the facilities within the recreation areas.

An analysis of nearby recreation facilities with similar amenities shows that the proposed fees are reasonable and typical of similar sites in the area.

DATES: Comments will be accepted through September 5. New fees would begin May 2018.

ADDRESSES: Paul I.V. Strong, Forest Supervisor, Chequamegon-Nicolet National Forest, 500 Hanson Lake Road Rhinelander, WI 54501

FOR FURTHER INFORMATION CONTACT: Hilary Markin, Public Affairs Officer, 715-362-1354. Information about these and other proposed fee changes can also be found on the Chequamegon-Nicolet National Forest Web site: https://www.fs.usda.gov/CNNF

SUPPLEMENTARY INFORMATION: The Federal Recreation Lands Enhancement Act (Title VII, P.L. 108-447) directed the Secretary of Agriculture to publish a six month advance notice in the Federal Register whenever new recreation fee areas are established.

All proposed day-use sites have the six amenities required under the Federal Lands Recreation Enhancement Act and are similar to other fee sites on the Chequamegon-Nicolet National Forest. Franklin Lake Caretakers Cabin is a unique overnight opportunity not provided elsewhere on the forest. These proposed new fees are part of a larger fee proposal that includes campground increases and a change in the price of the annual day-use fee. For more information on these sites and the full proposal, visit https://www.fs.usda.gov/CNNF/.

Dated: July 18, 2017.
Jeanne M. Higgins,
Acting Associate Deputy Chief, National Forest System.

[FR Doc. 2017-16941 Filed 8-10-17; 8:45 am]

BILLING CODE 3411-15-P